DEPARTMENT OF HOMELAND SECURITY

[Docket No. CISA-2022-0006]

Notice of President's National Security Telecommunications Advisory Committee Meeting

AGENCY: Cybersecurity and Infrastructure Security Agency (CISA), Department of Homeland Security.

ACTION: Notice of Federal Advisory Committee Act (FACA) meeting; request for comments.

SUMMARY: CISA is publishing this notice to announce the following President's National Security Telecommunications Advisory Committee (NSTAC) meeting. This meeting will be open to the public.

DATES: Meeting Registration: Registration to attend the meeting is required and must be received no later than 5:00 p.m. Eastern Time (ET) on August 16, 2022. For more information on how to participate, please contact NSTAC@cisa.dhs.gov.

Speaker Registration: Registration to speak during the meeting's public comment period must be received no later than 5:00 p.m. ET on August 16, 2022.

Written Comments: Written comments must be received no later than 5:00 p.m. ET on August 16, 2022.

Meeting Date: The NSTAC will meet on August 23, 2022, from 2:00 p.m. to 3:00 p.m. ET. The meeting may close early if the committee has completed its business.

ADDRESSES: The meeting will be held via conference call. For access to the conference call bridge, information on services for individuals with disabilities, or to request special assistance, please email NSTAC@cisa.dhs.gov by 5:00 p.m. ET on August 16, 2022.

Comments: Members of the public are invited to provide comment on the issues that will be considered by the committee as listed in the SUPPLEMENTARY INFORMATION section below. Associated materials that may be discussed during the meeting will be made available for review at https://www.cisa.gov/nstac on August 8, 2022. Comments may be submitted by 5:00 p.m. ET on August 16, 2022 and must be identified by Docket Number CISA-2022-0006. Comments may be submitted by one of the following methods:

• Federal eRulemaking Portal: www.regulations.gov. Please follow the instructions for submitting written comments.

• Email: NSTAC@cisa.dhs.gov. Include the Docket Number CISA-2022-0006 in the subject line of the email.

Instructions: All submissions received must include the words “Department of Homeland Security” and the Docket Number for this action. Comments received will be posted without alteration to www.regulations.gov, including any personal information provided.

Docket: For access to the docket and comments received by the NSTAC, please go to www.regulations.gov and enter docket number CISA-2022-0006.

A public comment period is scheduled to be held during the meeting from 2:30 p.m. to 2:40 p.m. ET. Speakers who wish to participate in the public comment period must email NSTAC@cisa.dhs.gov to register. Speakers should limit their comments to three minutes and will speak in order of registration. Please note that the public comment period may end before the time indicated, following the last request for comments. The NSTAC is committed to ensuring all participants have equal access regardless of disability status. If you require reasonable accommodation due to a disability to fully participate, please contact Ms. Christina Berger at 207-701-6345 as soon as possible.

FOR FURTHER INFORMATION CONTACT: Christina Berger, 202-701-6345, NSTAC@cisa.dhs.gov.

SUPPLEMENTARY INFORMATION: The NSTAC is established under the authority of Executive Order (E.O.) 12382, dated September 13, 1982, as amended by E.O. 13286, continued and amended under the authority of E.O. 14048, dated September 30, 2021. Notice of this meeting is given under FACA, 5 U.S.C. Appendix (Pub. L. 92-463). The NSTAC advises the President on matters related to national security and emergency preparedness (NS/EP) telecommunications and cybersecurity policy.

Agenda: The NSTAC will hold a conference call on Tuesday, August 23, 2022, to discuss current NSTAC activities and the government's ongoing cybersecurity and NS/EP communications initiatives. This meeting is open to the public and will include: (1) remarks from the administration and CISA leadership on salient NS/EP and cybersecurity efforts; (2) a status update on the NSTAC Strategy for Increasing Trust in the Information and Communications Technology and Services Ecosystem Subcommittee; and (3) a deliberation and vote on the NSTAC Report to the President on Information Technology and Operational Technology Convergence.

Dated: July 14, 2022.
Christina Berger,
Designated Federal Officer, NSTAC Cybersecurity and Infrastructure Security Agency, Department of Homeland Security.

[FR Doc. 2022-15473 Filed 7-19-22; 8:45 am]

BILLING CODE 9110-9P-P